DEPARTMENT OF LABOR

Occupational Safety and Health Administration

[Docket No. OSHA-2007-0041]

FM Approvals LLC: Grant of Expansion of Recognition and Modification to the NRTL Program's List of Appropriate Test Standards

AGENCY: Occupational Safety and Health Administration (OSHA), Labor.

ACTION: Notice.

SUMMARY: In this notice, OSHA announces the final decision to expand the scope of recognition for FM Approvals LLC, as a Nationally Recognized Testing Laboratory (NRTL). Additionally, OSHA announces the final decision to add fourteen test standards to the NRTL Program's list of appropriate test standards.

DATES: The expansion of the scope of recognition becomes effective on December 26, 2023.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. Kevin Robinson, Director, Office of Technical Programs and Coordination Activities, Directorate of Technical Support and Emergency Management, Occupational Safety and Health Administration, U.S. Department of Labor; telephone: (202) 693-1911; email: robinson.kevin@dol.gov. OSHA's web page includes information about the NRTL Program (see http://www.osha.gov/dts/otpca/nrtl/index.html).

SUPPLEMENTARY INFORMATION:

I. Notice of the Applications for Expansion

OSHA hereby gives notice of the expansion of the scope of recognition for FM Approvals LLC (FM). FM's expansion covers the addition of fourteen test standards to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition, as well as for an expansion or renewal of recognition, following requirements in appendix A to 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including FM, which details that NRTL's scope of recognition. These pages are available from the OSHA website at https://www.osha.gov/dts/otpca/nrtl/index.html.

FM submitted two applications to OSHA to expand recognition as a NRTL. The first application was submitted on September 20, 2019 (OSHA-2007-0041-0021), to include ten test standards. The second application requesting the addition of six standards was submitted on May 3, 2021 (OSHA-2007-0041-0022). The first application was amended on September 21, 2022 (OSHA-2007-0041-0023), to remove two standards from the original submission. The expansion covered in this notice includes the remaining fourteen standards across both applications. OSHA staff performed a detailed analysis of the application packets and reviewed other pertinent information. OSHA did not perform any on-site reviews in relation to these applications.

OSHA published the preliminary notice announcing FM's expansion applications in the Federal Register on November 21, 2023 (88 FR 81105). The agency requested comments by December 6, 2023, but it received no comments in response to this notice. OSHA is now proceeding with this final notice to grant expansion of FM's NRTL scope of recognition.

To review copies of all public documents pertaining to FM's expansion applications, go to https://www.regulations.gov or contact the Docket Office, Occupational Safety and Health Administration, U.S. Department of Labor at (202) 693-2350. Docket No. OSHA-20007-0041 contains all materials in the record concerning FM's recognition. All submissions, including copyrighted material, are available for inspection through the OSHA Docket Office. Contact the OSHA Docket Office at (202) 693-2350 for assistance in locating docket submissions.

II. Final Decision and Order

OSHA staff examined FM's expansion applications, their capability to meet the requirements of the test standards, and other pertinent information. Based on its review of this evidence, OSHA finds that FM meets the requirements of 29 CFR 1910.7 for expansion of its recognition, subject to the limitations and conditions listed below. OSHA, therefore, is proceeding with this final notice to grant FM's scope of recognition. OSHA limits the expansion of FM's recognition to testing and certification of products for demonstration of conformance to the test standards shown below in table 1.

Table 1—List of Appropriate Test Standards for Inclusion in FM's NRTL Scope of Recognition
Test standard | Test standard title
* FM 1311 | Centrifugal Fire Pumps Split-Case Type (Axial or Radial).
* FM 1312 | Centrifugal Fire Pumps (Vertical Shaft, Turbine Type).
* FM 1313 | Positive Displacement Fire Pumps (Rotary Gear Type).
* FM 1319 | Centrifugal Fire Pumps (Horizontal, End Suction Type).
* FM 1370 | Centrifugal Fire Pumps (Vertical Shaft, Turbine Type, Barrel).
* FM 1371 | Centrifugal Fire Pumps (In-Line Type).
* FM 3132 | Pressure Actuated Waterflow Switches.
* FM 3150 | Audible Notification Appliances for Automatic Fire Alarm Signaling.
* FM 3155 | Public Mode Visible Signaling Appliances for Automatic Fire Alarm Signaling.
* FM 3230 | Smoke Actuated Detectors for Automatic Fire Alarm Signaling.
* FM 3232 | Video Image Fire Detectors for Automatic Fire Alarm Signaling.
* FM 5320 | Dry Chemical Extinguishing Systems.
* FM 5420 | Carbon Dioxide Extinguishing Systems.
* FM 5600 | Clean Agent Extinguishing Systems.
* Represents the standards that OSHA proposes to add to the NRTL Program's List of Appropriate Test Standards

In this notice, OSHA also announces the final decision to add fourteen new test standards to the NRTL Program's List of Appropriate Test Standards. Table 2 below lists the standards that are new to the NRTL Program. OSHA has determined that these test standards are appropriate test standards and will add them to the NRTL Program's List of Appropriate Test Standards.

Table 2—Standards OSHA Is Adding to the NRTL Program's List of Appropriate Test Standards
Test standard | Test standard title
FM 1311 | Centrifugal Fire Pumps Split-Case Type (Axial or Radial).
FM 1312 | Centrifugal Fire Pumps (Vertical Shaft, Turbine Type).
FM 1313 | Positive Displacement Fire Pumps (Rotary Gear Type).
FM 1319 | Centrifugal Fire Pumps (Horizontal, End Suction Type).
FM1370 | Centrifugal Fire Pumps (Vertical Shaft, Turbine Type, Barrel).
FM 1371 | Centrifugal Fire Pumps (In-Line Type).
FM 3132 | Pressure Actuated Waterflow Switches.
FM 3150 | Audible Notification Appliances for Automatic Fire Alarm Signaling.
FM 3155 | Public Mode Visible Signaling Appliances for Automatic Fire Alarm Signaling.
FM 3230 | Smoke Actuated Detectors for Automatic Fire Alarm Signaling.
FM 3232 | Video Image Fire Detectors for Automatic Fire Alarm Signaling.
FM 5320 | Dry Chemical Extinguishing Systems.
FM 5420 | Carbon Dioxide Extinguishing Systems.
FM 5600 | Clean Agent Extinguishing Systems.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, the use of the designation of the standards-developing organization for the standard as opposed to the ANSI designation may occur. Under the NRTL Program's policy (see OSHA Instruction CPL 01-00-004, Chapter 2, Section VIII), only standards determined to be appropriate test standards may be approved for NRTL recognition. Any NRTL recognized for a particular test standard may use either the proprietary version of the test standard or the ANSI version of that standard. Contact ANSI to determine whether a test standard is currently ANSI-approved.

A. Conditions

In addition to those conditions already required by 29 CFR 1910.7, FM must abide by the following conditions of the recognition:

1. FM must inform OSHA as soon as possible, in writing, of any change of ownership, facilities, or key personnel, and of any major change in its operations as a NRTL, and provide details of the change(s);

2. FM must meet all the terms of its recognition and comply with all OSHA policies pertaining to this recognition; and

3. FM must continue to meet the requirements for recognition, including all previously published conditions on FM's scope of recognition, in all areas for which it has recognition.

Pursuant to the authority in 29 CFR 1910.7, OSHA hereby expands the scope of recognition of FM, subject to the limitations and conditions specified above. OSHA also adds fourteen standards to the NRTL Program's List of Appropriate Test Standards.

III. Authority and Signature

James S. Frederick, Deputy Assistant Secretary of Labor for Occupational Safety and Health, 200 Constitution Avenue NW, Washington, DC 20210, authorized the preparation of this notice. Accordingly, the agency is issuing this notice pursuant to Section 29 U.S.C. 657(g)(2), Secretary of Labor's Order No. 8-2020 (85 FR 58393; Sept. 18, 2020), and 29 CFR 1910.7.

Signed at Washington, DC.
James S. Frederick,
Deputy Assistant Secretary of Labor for Occupational Safety and Health.

[FR Doc. 2023-28338 Filed 12-22-23; 8:45 am]

BILLING CODE 4510-26-P